DEPARTMENT OF COMMERCE

National Institute of Standards and Technology

[Docket No.: 061212329-6329-01]

Proposed Voluntary Product Standard PS 1-06, Structural Plywood

AGENCY: National Institute of Standards and Technology, Commerce.

ACTION: Notice and request for comments.

SUMMARY: This notice advises the public that the National Institute of Standards and Technology (NIST) is distributing a proposed revision of Voluntary Product Standard (PS) 1-95, Construction and Industrial Plywood. This standard, prepared by the Standing Committee for PS 1, establishes requirements, for those who choose to adhere to the standard, for the principal types and grades of structural plywood and provides a basis for common understanding among producers, distributors, and users of the product. Interested parties are invited to review the proposed standard and submit comments to NIST.

DATES: Written comments regarding the proposed revision, PS 1-06, should be submitted to the Standards Services Division, NIST, no later than February 27, 2007.

ADDRESSES: An electronic copy (an Adobe Acrobat File) of the proposed standard, PS 1-06, can be obtained at the following Web site ts.nist.gov/docvps. This site also includes an electronic copy of PS 1-95 (the existing standard), a summary of significant changes, and a form for submitting comments. Written comments on the proposed revision should be submitted to Ms. JoAnne Overman, Standards Services Division, NIST, 100 Bureau Drive, Stop 2100, Gaithersburg, MD 20899-2100. Electronic comments may be submitted to joanne.overman@nist.gov.

FOR FURTHER INFORMATION CONTACT: Ms. JoAnne Overman, Standards Services Division, National Institute of Standards and Technology, telephone: (301) 975-4037; fax: 301-975-4715, e-mail: joanne.overman@nist.gov.

SUPPLEMENTARY INFORMATION: Proposed Voluntary Product Standard PS 1-06 establishes requirements, for those who choose to adhere to the standard, for the principal types and grades of structural plywood. This standard covers the wood species, veneer grading, adhesive bonds, panel construction and workmanship, dimensions and tolerances, marking, moisture content, and packing of plywood intended for construction and industrial uses.

The proposed revision of the standard, PS 1-95, Construction and Industrial Plywood, has been developed and is being processed in accordance with Department of Commerce provisions in Title 15 Code of Federal Regulations Part 10, Procedures for the Development of Voluntary Product Standards, as amended (published June 20, 1986). The Standing Committee for PS 1 is responsible for maintaining, revising, and interpreting the standard and comprises producers, distributors, users, and others with an interest in the standard.

After reviewing the standard, the Committee determined that portions of it were obsolete and technically inadequate and needed to be revised to reflect current industry practices. The Committee held meetings to review the standard and make needed changes. Much of the work was performed by the document's sponsor, APA—The Engineered Wood Association. Committee members voted on the revision and it was approved by at least three-quarters of the membership. The Committee submitted a report to NIST with the voting results and the draft revised standard. NIST has determined that the revised standard should be issued for public comment.

Included in this standard are test methods to determine compliance and a glossary of trade terms and definitions. A quality certification program is provided whereby qualified testing agencies inspect, sample, and test products identified as complying with this standard. Information on species grouping is provided in Appendix A; information on reinspecting practices is provided in Appendix B; and information on the maintenance, history, and current edition of the standard is provided in Appendix C.

This Voluntary Product Standard incorporates the International System of Units (SI) as well as U.S. customary units of measurement. In conversion of U.S. customary units where exact placement is not an issue, such as nail spacing, approximate conversions to SI units are made to yield more easily recognizable numbers. In critical matters, such as panel thickness, more precise conversions to SI units are made. For nominal U.S. customary units, actual dimensions in SI units are given. The values given in SI units are the standard. The values in parentheses are for information only. Advisory notes in this standard and Appendices B and C shall not be considered mandatory.

This revision includes the following changes:

(1) Name Change—Since its inception in 1966 when three regional plywood standards were consolidated, the title of PS 1 has been Construction and Industrial Plywood. This revision changes the name to Structural Plywood as that name is more consistent with marketplace terminology.

(2) Deletion of Interior and Intermediate Bond Classifications—Provisions, test methods, and criteria for plywood manufactured with Interior and Intermediate Bond Classifications were removed from the standard because the use of such adhesive systems had become rare since the industry had transitioned to moisture resistant adhesives in the 1950s.

(3) Mold/bacteria tests—Test methods and associated criteria for assessing the potential for mold and bacteria growth on the adhesives used to manufacture plywood were eliminated. Those methods were developed and relevant only to the Interior and Intermediate types of adhesives used decades ago and which had long become obsolete since the industry switched to moisture resistant adhesives.

(4) Terminology—Terminology related to Bond Classifications was revised to clarify that adhesive classification methods were specific to wet bonding strength and did not address other modes of natural degradation of plywood. In addition, the terminology “Interior Bonded with Exterior Glue” was replaced with its alternate term “Exposure 1” as that term has become common in the marketplace.

(5) Performance Testing Language—Language clarifying the sampling and pass/fail criteria of performance testing was revised to be consistent with the language in PS 2-04, Performance Standard for Wood-Based Structural-Use Panels.

(6) Table 1—This Table was modified to better reflect the species included in the various Groups and the text referring to Table 1 was also modified accordingly.

(7) Appendix A on Assignment of Species Grouping—This mandatory appendix was added to the standard to clarify the process by which species had been evaluated for tabulation in Table 1.

(8) Overlays—The prescriptive definitions of High Density Overlays (HDO) and Medium Density Overlays (MDO) were revised to reflect commercially available products based on input from producers of overlays and overlaid plywood. In addition, HDO grades were differentiated into HDO-concrete form and HDO-industrial and MDO grades were differentiated into MDO-concrete form and MDO-general to recognize that overlays are designed and manufactured to satisfy specific end-use requirements.

(9) Repairs—The size permitted for synthetic repairs was modified to create compatibility with permissible wood repairs.

(10) Exterior Plywood Grades—Table 3 on Exterior Plywood Grades was revised to incorporate new grades of overlaid plywood and concrete form grades.

(11) Underlayment—Section 5.6.3 on Underlayment was revised to clarify the grade and intended end-use.

(12) Minimum Grade for Exposure 1—Table 2 on Exposure 1 grades was revised to permit D-D grade only for plywood qualified through performance testing specified in PS 1 or PS 2. This change creates compatibility with the minimum grade permitted in PS 2.

Concurrent with this Federal Register Notice, the proposed Voluntary Product Standard PS 1-06 is being distributed by the National Institute of Standards and Technology to national experts and other interested parties for review and comment, in order to ensure that the standard constitutes acceptable industry practice. All public comments will be reviewed and considered. The Standing Committee for PS 1 and NIST will revise the standard accordingly.

Dated: December 20, 2006.
James E. Hill,
Acting Deputy Director.

[FR Doc. E6-22435 Filed 12-28-06; 8:45 am]

BILLING CODE 3510-13-P